DEPARTMENT OF ENERGY

Federal Energy Regulatory Commission

Combined Notice of Filings #1

Take notice that the Commission received the following exempt wholesale generator filings:

Docket Numbers: EG24-21-000.

Applicants: Black Walnut Energy Storage, LLC.

Description: Black Walnut Energy Storage, LLC submits Notice of Self-Certification of Exempt Wholesale Generator Status.

Filed Date: 10/26/23.

Accession Number: 20231026-5150.

Comment Date: 5 p.m. ET 11/16/23.

Take notice that the Commission received the following electric rate filings:

Docket Numbers: ER16-1946-002; ER16-1947-002; ER16-1948-002.

Applicants: Atlantic Energy MA LLC, Atlantic Energy MD, LLC, Atlantic Energy LLC.

Description: Notice of Non-Material Change in Status of Atlantic Energy LLC, et al.

Filed Date: 10/27/23.

Accession Number: 20231027-5062.

Comment Date: 5 p.m. ET 11/17/23.

Docket Numbers: ER23-1851-003.

Applicants: PJM Interconnection, L.L.C.

Description: Tariff Amendment: Original & Amended ISA-CSA, SA Nos. 6917-6918; Queue No. AD1-031 (Part I of II) to be effective 7/8/2023.

Filed Date: 10/27/23.

Accession Number: 20231027-5143.

Comment Date: 5 p.m. ET 11/17/23.

Docket Numbers: ER23-1851-004.

Applicants: PJM Interconnection, L.L.C.

Description: Tariff Amendment: Original & Amended ISA-CSA, SA Nos. 6917-6918; Queue No. AD1-031 (Part II of II) to be effective 10/26/2023.

Filed Date: 10/27/23.

Accession Number: 20231027-5157.

Comment Date: 5 p.m. ET 11/17/23.

Docket Numbers: ER23-1973-001.

Applicants: BE-Pine 1 LLC.

Description: Notice of Non-Material Change in Status of BE-Pine 1 LLC.

Filed Date: 10/25/23.

Accession Number: 20231025-5286.

Comment Date: 5 p.m. ET 11/15/23.

Docket Numbers: ER23-2520-001.

Applicants: SR Litchfield, LLC.

Description: Tariff Amendment: Response to Deficiency Notice to be effective 9/27/2023.

Filed Date: 10/27/23.

Accession Number: 20231027-5180.

Comment Date: 5 p.m. ET 11/17/23.

Docket Numbers: ER23-2522-001.

Applicants: SR Georgetown, LLC.

Description: Tariff Amendment: Response to Deficiency Notice to be effective 9/27/2023.

Filed Date: 10/27/23.

Accession Number: 20231027-5172.

Comment Date: 5 p.m. ET 11/17/23.

Docket Numbers: ER23-2523-001.

Applicants: SR Lambert I, LLC.

Description: Tariff Amendment: Response to Deficiency Notice to be effective 9/27/2023.

Filed Date: 10/27/23.

Accession Number: 20231027-5174.

Comment Date: 5 p.m. ET 11/17/23.

Docket Numbers: ER23-2524-001.

Applicants: SR Lambert II, LLC.

Description: Tariff Amendment: Response to Deficiency Notice to be effective 9/27/2023.

Filed Date: 10/27/23.

Accession Number: 20231027-5178.

Comment Date: 5 p.m. ET 11/17/23.

Docket Numbers: ER23-2582-001.

Applicants: Southwest Power Pool, Inc.

Description: Tariff Amendment: Amended Filing in ER23-2582—Application of Emergency Limits to be effective 11/1/2023.

Filed Date: 10/27/23.

Accession Number: 20231027-5077.

Comment Date: 5 p.m. ET 11/17/23.

Docket Numbers: ER23-2657-001.

Applicants: Emera Energy LNG, LLC.

Description: Tariff Amendment: Per Deficiency Letter—Indicative Screen Studies' AA Serial No's (ER23-2657-) to be effective 10/18/2023.

Filed Date: 10/27/23.

Accession Number: 20231027-5041.

Comment Date: 5 p.m. ET 11/17/23.

Docket Numbers: ER23-2658-001.

Applicants: Emera Energy Services Subsidiary No. 11 LLC.

Description: Tariff Amendment: Per Deficiency Letter- Indicative Screen Studies' AA Serial No's. (ER23-2658-) to be effective 10/18/2023.

Filed Date: 10/27/23.

Accession Number: 20231027-5068.

Comment Date: 5 p.m. ET 11/17/23.

Docket Numbers: ER23-2659-001.

Applicants: Emera Energy Services Subsidiary No. 12 LLC.

Description: Tariff Amendment: Per Deficiency Letter—Indicative Screen Studies' AA Serial No's.s (ER23-2659-) to be effective 10/18/2023.

Filed Date: 10/27/23.

Accession Number: 20231027-5073.

Comment Date: 5 p.m. ET 11/17/23.

Docket Numbers: ER23-2660-001.

Applicants: Emera Energy Services Subsidiary No. 13 LLC.

Description: Tariff Amendment: Per Deficiency Letter—Indicative Screen Studies' AA Serial No's. (ER23-2660-) to be effective 10/18/2023.

Filed Date: 10/27/23.

Accession Number: 20231027-5079.

Comment Date: 5 p.m. ET 11/17/23.

Docket Numbers: ER23-2661-001.

Applicants: Emera Energy Services Subsidiary No. 15 LLC.

Description: Tariff Amendment: Per Deficiency Letter—Indicative Screen Studies' AA Serial No's. (ER23-2661-) to be effective 10/18/2023.

Filed Date: 10/27/23.

Accession Number: 20231027-5084.

Comment Date: 5 p.m. ET 11/17/23.

Docket Numbers: ER23-2917-000.

Applicants: California Independent System Operator Corporation.

Description: Motion for Leave to Answer and Answer of SunZia Transmission, LLC to the October 13, 2023, Limited Protest of Southern California Edison, et al.

Filed Date: 10/27/23.

Accession Number: 20231027-5221.

Comment Date: 5 p.m. ET 11/17/23.

Docket Numbers: ER24-216-000.

Applicants: AEP Texas Inc.

Description: § 205(d) Rate Filing: AEPTX—AP Sunray 3rd A&R System Upgrade Agreement to be effective 10/9/2023.

Filed Date: 10/26/23.

Accession Number: 20231026-5153.

Comment Date: 5 p.m. ET 11/16/23.

Docket Numbers: ER24-217-000.

Applicants: NorthWestern Corporation.

Description: § 205(d) Rate Filing: RS 331 Certificate of Concurrence to PGE Dynamic Transfer BA to be effective 10/31/2023.

Filed Date: 10/26/23.

Accession Number: 20231026-5154.

Comment Date: 5 p.m. ET 11/16/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 27, 2023.
Debbie-Anne A. Reese,
Deputy Secretary.

[FR Doc. 2023-24257 Filed 11-2-23; 8:45 am]

BILLING CODE 6717-01-P